DEPARTMENT OF HEALTH AND HUMAN SERVICES

Agency for Toxic Substances and Disease Registry

[ATSDR-168]

Availability of the Draft Document, Public Health Reviews of Hazardous Waste Thermal Treatment Technologies

AGENCY: Agency for Toxic Substances and Disease Registry (ATSDR), HHS.

ACTION: Notice of availability and request for public comment of the draft document, Public Health Reviews of Hazardous Waste Thermal Treatment Technologies.

SUMMARY: The Agency for Toxic Substances and Disease Registry announces the availability for public comment of the draft document, Public Health Reviews of Hazardous Waste Thermal Treatment Technologies.

DATES: Comments must be received by April 23, 2001.

ADDRESSES: The document is available by contacting the Chief, Program Evaluation, Records, and Information Services Branch, Agency for Toxic Substances and Disease Registry, 1600 Clifton Road (E-56), Atlanta, GA 30333. Please submit written comments relating to the document to the same location. ATSDR reserves the right to provide only one copy of this draft document free of charge. The document may also be accessed at the ATSDR Home page News section at www.atsdr.cdc.gov. Generally, comments submitted will be available to the public upon request. Information submitted which is claimed as personal, medical, or otherwise confidential and proprietary must be clearly marked as such. Information so marked will not be disclosed except in accordance with 45 CFR part 5.

FOR FURTHER INFORMATION CONTACT: Further information may be obtained by contacting Betty C. Willis, ATSDR (Mailstop E-56), 1600 Clifton Road, NE, Atlanta, Georgia 30333, telephone (404) 639-6071 or (toll free) 1-888-42-ATSDR, 1-888-422-8737, or Email: bwillis@cdc.gov.

SUPPLEMENTARY INFORMATION: The Agency for Toxic Substances and Disease Registry (ATSDR) is the lead Department of Health and Human Services agency addressing human health concerns and risks in communities near hazardous waste sites or other sources of environmental contamination. ATSDR has specific responsibilities for public health activities under the Comprehensive Environmental Response, Compensation, and Liability Act (CERCLA or “Superfund”). These activities include: Health consultations and public health assessments at sites listed on, or proposed for, the Superfund National Priorities List and at sites that are the subject of petitions from the public.

This draft document, Public Health Reviews of Hazardous Waste Thermal Treatment Technologies, will assist in the Agency's critical mission to reduce and prevent exposures and adverse health outcomes from exposure to hazardous substances. The document provides technical guidance for Agency staff who review thermal treatment technologies to evaluate the potential public health effects associated with the use of incinerators or thermal desorbers to treat hazardous wastes. This document contains detailed technical guidance to promote consistency among Agency staff during evaluations of thermal treatment facilities. People who do not have technical experience and knowledge of thermal technologies may find it difficult to understand.

This draft, Public Health Reviews of Hazardous Waste Thermal Treatment Technologies, is available for public comment so the Agency can benefit from public review and input before finalizing the document. This Federal Register notice announces that this draft document is available for public comment.

Dated: March 19, 2001.
Georgi Jones,
Director, Office of Policy and External Affairs, Agency for Toxic Substances and Disease Registry.

[FR Doc. 01-7235 Filed 3-22-01; 8:45 am]

BILLING CODE 4163-70-P